DEPARTMENT OF COMMERCE

National Oceanic and Atmospheric Administration

RIN 0648-XZ65

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a joint meeting of its Ecosystem Scientific and Statistical Committee & Socioeconomic Panel.

DATES: The Ecosystem Scientific and Statistical Committee & Socioeconomic Panel meeting will begin at 9 a.m. on Wednesday, November 3, 2010 and conclude by 4 p.m. on Thursday, November 4, 2010.

ADDRESSES: The meeting will be held at the Gulf of Mexico Fishery Management Council, 2203 North Lois Avenue, Suite 1100, Tampa, FL 33607.

Council address: Gulf of Mexico Fishery Management Council, 2203 North Lois Avenue, Suite 1100, Tampa, FL 33607.

FOR FURTHER INFORMATION CONTACT: Dr. Karen Burns, Ecosystem Management Specialist, Gulf of Mexico Fishery Management Council; telephone: (813) 348-1630.

SUPPLEMENTARY INFORMATION: On the first day, the Ecosystem Scientific and Statistical Committee and Socioeconomic Panel will discuss ways in which socioeconomic data can be integrated into fisheries science in moving toward ecosystem based fishery management. Various conceptual frameworks and models will be presented. The second day will be devoted to identifying impacts of the Deep Horizon oil spill that will directly affect Gulf Council fishery management decisions.

Copies of the agendas and other related materials can be obtained by calling (813) 348-1630 or can be downloaded from the Council's ftp site, ftp.gulfcouncil.org. The ftp server can be accessed from the Gulf Council's home page. Once on the ftp server, click on the KB folder and then proceed to the link to the ECO-SSC & SEP folder. Click on the SSC & SEP meeting 2010-11. The meeting agenda, information on the presenters, the proposal for the joint Ecosystem Scientific and Statistical Committee and the Socioeconomic Panel joint workshop for next year and additional material are available on the site.

Although other non-emergency issues not on the agendas may come before the Scientific and Statistical Committee for discussion, in accordance with the Magnuson-Stevens Fishery Conservation and Management Act, those issues may not be the subject of formal action during these meetings. Actions of the and Statistical Committee will be restricted to those issues specifically identified in the agendas and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Tina O'Hern at the Council (see ADDRESSES) at least 5 working days prior to the meeting.

Dated: October 8, 2010.
Tracey L. Thompson,
Acting Director, Office of Sustainable Fisheries, National Marine Fisheries Service.

[FR Doc. 2010-25890 Filed 10-13-10; 8:45 am]

BILLING CODE 3510-22-P